DEPARTMENT OF DEFENSE

Office of the Secretary

[Docket ID: DOD-2016-HA-0101]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 16, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Joint Operational Medical Information Systems, 1501 Wilson Blvd., Suite 600, Arlington, VA 22209-2412.

SUPPLEMENTARY INFORMATION: Title; Associated Form; and OMB Number: Theater Medical Data Store (TMDS); OMB Control Number; 0720-XXXX.

Needs and Uses: The Theater Medical Data Store (TMDS) allows providers the ability to view, track, and disposition ill or injured patients as they move through the Theater echelons of care, the Sustaining Base, and those related systems and services shared with the Department of Veterans Affairs.

Affected Public: Individuals.

Annual Burden Hours: 23,214.

Number of Respondents: 69,642.

Responses per Respondent: 1.

Annual Responses: 69,642.

Average Burden per Response: 20 minutes.

Frequency: On Occasion.

The key capabilities of TMDS include but not limited to receiving medical data from AHLTA-Mobile, AHLTA-Theater, Composite Health Care System Caché (CHCS), SNAP Automated Medical System (SAMS), and Transportation Command Regulating Command arid Control Evacuation System (TRAC2ES). TMDS serves as the authoritative Theater database for service members, contractors, host nation, and foreign military medical information, allowing users to track patients' disposition and display their longitudinal medical record information. TMDS is also the authoritative data store for blood shipments and transfusion data in Theater. Capabilities include viewing all Theater clinical information, such as progress notes, laboratory history, drug history, and radiological history; viewing, tracking, and managing ill or injured patients as they move through the continuum of care; and accessing data on airlifted critically injured patients before arrival at their next point of care. Personally identifiable information (PII) and protected health information (PHI) that is collected by the system and includes: Name, social security number (SSN), Department of Defense ID (DODID), family member prefix (FMP), rank, service affiliation, birth date, race/ethnicity, gender, marital status, spouse information, emergency contact, sponsor name, and sponsor SSN.

Dated: October 12, 2016.
Aaron Siegel,
Alternate OSD Federal Register Liaison Officer, Department of Defense.

[FR Doc. 2016-25042 Filed 10-14-16; 8:45 am]

BILLING CODE 5001-06-P